DEPARTMENT OF COMMERCE

National Oceanic and Atmospheric Administration

RIN: 0648-XC64

New England Fishery Management Council; Public Meetings

AGENCY: National Marine Fisheries Service (NMFS), National Oceanic and Atmospheric Administration (NOAA), Commerce

ACTION: Notice of public meetings.

SUMMARY: The New England Fishery Management Council (Council) is scheduling a public meeting of its Scallop Advisory Panels and its Scallop Committee, in October, 2007, to consider actions affecting New England fisheries in the exclusive economic zone (EEZ). Recommendations from these groups will be brought to the full Council for formal consideration and action, if appropriate.

DATES: These meetings will be held on Wednesday, October 10, 2007, at 9 a.m. and Thursday, October 11, 2007, at 9 a.m.

ADDRESSES: These meetings will be held at the Holiday Inn, One Newbury Street, Peabody, MA 01960; telephone: (978) 535-4600; fax: (978) 535-8238.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Wednesday, October 10, 2007; Scallop General Category and Advisory Panels Meeting.

The Scallop Advisory Panels will review and recommend preferred alternatives for Framework 19 to the Scallop Fishery Management Plan. Framework 19 is a biennial action that will set management measures for fishing years 2008 and 2009.

Thursday, October 11, 2007; Scallop Committee Meeting.

The Committee will review and recommend preferred alternatives for Framework 19 to the Scallop Fishery Management Plan. The Committee will also review and approve research priorities for the 2008-2009 Scallop Research Set-Aside Program. The Committee may consider other topics at their discretion.

Although non-emergency issues not contained in this agenda may come before these groups for discussion, those issues may not be the subject of formal action during these meetings Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: September 12, 2007.
Emily Menashes,
Acting Director, Office of Sustainable Fisheries, National Marine Fisheries Service.

[FR Doc. E7-18225 Filed 9-14-07; 8:45 am]

BILLING CODE 3510-22-S